FEDERAL RESERVE SYSTEM

Change in Bank Control Notices, Acquisition of Shares of Bank or Bank Holding Companies; Correction

This notice corrects a notice (FR Doc. E6-4905) published on page 17102 of the issue for Wednesday, April 5, 2006.

Under the Federal Reserve Bank of St. Louis heading, the entry for Nancy Hays Gottwald, Richmond, Virginia, is revised to read as follows:

A. Federal Reserve Bank of St. Louis (Glenda Wilson, Community Affairs Officer) 411 Locust Street, St. Louis, Missouri 63166-2034:

1. Nancy Hays Gottwald, Richmond, Virginia; to acquire additional voting shares of First National Bancshares of Hempstead County, Hope, Arkansas, and thereby indirectly acquire additional voting shares of Bank of Blevins, Blevins, Arkansas; The First National Bank of Hope, Hope, Arkansas; and The First National Bank of Lewisville, Lewisville, Arkansas.

Comments on this application must be received by April 20, 2006.

Board of Governors of the Federal Reserve System, April 5, 2006.
Robert deV. Frierson,
Deputy Secretary of the Board.

[FR Doc. E6-5186 Filed 4-7-06; 8:45 am]

BILLING CODE 6210-01-S